FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the United States Currency Program Surveys (FR 3054; OMB No. 7100-0332).

DATES: The revisions are effective January 7, 2026.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 3054.

Final Approval Under OMB Delegated Authority of the Extension for Three Years, With Revision, of the Following Information Collection

Collection title: United States Currency Program Surveys.

Collection identifier: FR 3054.

OMB control number: 7100-0332.

General description of collection: The U.S. Currency Program Surveys are used to obtain information specifically tailored to the Federal Reserve's operational and fiscal agency responsibilities. The Board's current U.S. Currency Program set of information collections, collectively referred to as FR 3054, are comprised of the following: Ad Hoc Currency Surveys (FR 3054a); Currency Quality Sampling Survey (FR 3054b); Currency Quality Survey (FR 3054c); Currency Functionality and Perception Survey (FR 3054d); and Currency Education Usability Survey (FR 3054e). All collections except FR 3054c are conducted on an ad hoc basis.

Frequency: The FR 3054a, FR 3054e, FR 3054f, and FR 3054g are event-generated and may be conducted up to 10 times per year. The FR 3054b is event-generated and maybe be conducted up to 1 time per year. The FR 3054c is conducted 2 times per year. The FR 3054d is event-generated and conducted up to 5 times per year.

Respondents: Financial institutions (including depository institutions, currency exchanges, or central banks), law enforcement, nonfinancial businesses (retailers, banknote equipment manufacturers, or global wholesale bank note dealers), and individuals within the general public.

Total estimated number of respondents: FR 3054a, 400; FR 3054b, 500; FR 3054c, 25; FR 3054d, 1; FR 3054e, 250; FR 3054f, 5,000; FR 3054g, 4,000.

Estimated average hours per response: FR 3054a, 2; FR 3054b. 0.5; FR 3054c, 30; FR 3054d, 30; FR 3054e, 1.5; FR 3054f, 0.5; FR 3054g, 0.5.

Total estimated change in burden: 37,525.

Total estimated annual burden hours: 58.650.

Current actions: On July 31, 2025, the Board published a notice in the Federal Register (90 FR 36053) requesting public comment for 60 days on the extension, with revision, of the FR 3054. The Board proposed to change the name of the information collection from “Payment Systems Surveys” to “United States Currency Program Surveys” to more accurately describe the effort that the collections support.

The Board also proposed to revise FR 3054a and FR 3054e by splitting both into short-form and long-form collections and proposing implementation of the Short-form Currency Program Surveys (FR 3054f) and the Short-form Currency Education Usability Surveys (FR 3054g). These revisions would allow the four information collections (FR 3054a, FR 3054e, FR 3054f, FR 3054g) to more accurately account for the burden and number of respondents, while gathering the necessary data to support the introduction of a new set of banknotes.

The Board proposed to decrease the estimated number of respondents for FR 3054a, increase the frequency, increase the average hours per response, and rename the collection from “Ad Hoc Currency Surveys” to “Long-form Currency Program Surveys.” FR 3054a will continue to cover the same topics, but will focus on utilizing long-form collection methods, such as focus groups and interviews, while the short-form collection methods will continue as part of a new collection, the proposed FR 3054f.

The Board proposed to correct FR 3054d by decreasing the number of respondents, and increasing the estimated duration to accurately reflect the number and length of meetings held between the Board, FedCash Services, Bureau of Engraving and Printing, and banknote equipment manufacturers. This proposed revision returns FR 3054d to the burden hours that previously existed prior to 2020.

The Board proposed for FR 3054e to increase the estimated average hours per response and rename the collection from “Currency Education Usability Survey” to “Long-form Currency Education Usability Surveys.” Similar to FR 3054a, FR 3054e would continue to cover the same topics, but would focus on long-form collection methods, while the short-form collection methods would continue as part of a new collection (the proposed FR 3054g).

The Board proposed to establish a new information collection, the “Short-form Currency Program Surveys” (FR 3054f). This new collection will allow the Board to cover the same topics as the revised FR 3054a, but through quicker collection methods with a higher number of respondents.

The Board proposed to establish a second new collection, the “Short-form Currency Education Usability Surveys” (FR 3054g). FR 3054g would cover the same topics as FR 3054e using quicker and broader collection methods. The comment period for this notice expired on September 29, 2025. The Board did not receive any comments. The revisions will be implemented as proposed.

Board of Governors of the Federal Reserve System, December 4, 2025.
Erin M. Cayce,
Assistant Secretary of the Board.

[FR Doc. 2025-22260 Filed 12-5-25; 8:45 am]

BILLING CODE 6210-01-P